DEPARTMENT OF HOMELAND SECURITY

Transportation Security Administration

Notice of Intent To Request Approval From the Office of Management and Budget (OMB) of Two Public Collections of Information; Transportation Security Screener Medical Questionnaire; Airspace Waiver Applications

AGENCY: Transportation Security Administration (TSA), DHS.

ACTION: Notice.

SUMMARY: TSA invites public comment on two new information collection requirements abstracted below that will be submitted to OMB in compliance with the Paperwork Reduction Act.

DATES: Send your comments by January 21, 2005.

ADDRESSES: Comments may be mailed or delivered to Lisa Dean, Privacy Officer, Office of Transportation Security Policy, TSA-9, Transportation Security Administration, 601 South 12th Street, Arlington, VA 22202-4220.

FOR FURTHER INFORMATION CONTACT: Lisa Dean at the above address or by telephone (571) 227-3947 or facsimile (571) 227-2555.

SUPPLEMENTARY INFORMATION: In accordance with the Paperwork Reduction Act of 1995, (44 U.S.C. 3501 et seq.), an agency may not conduct or sponsor, and a person is not required to respond to a collection of information, unless it displays a valid OMB control number. Therefore, in preparation for submission to obtain clearance of the following information collections, TSA is soliciting comments to—

(1) Evaluate whether the proposed information requirements are necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

1. Transportation Security Screener Medical Questionnaire. TSA is requesting the collection of this information to comply with 49 U.S.C. 44935, which requires TSA to establish qualification standards for the employment of security screening personnel, including physical abilities and aptitude requirements. This collection of information will assist the agency in ensuring that candidates under employment consideration for Transportation Security Screener positions meet the qualification standards to successfully perform the functions of the position. These qualification requirements must be met to create a national workforce of skilled employees charged with protecting the Nation's transportation systems to ensure freedom of movement for people and commerce.

The information will be collected through a screener medical questionnaire. TSA deems this collection necessary to evaluate a candidate's aptitude and physical abilities, including color perception, visual and aural acuity, physical coordination and motor skills to be able to: (a) Distinguish on screening equipment monitors the appropriate imaging standard; (b) distinguish each color displayed on every type of screening equipment and explain what each color signifies; (c) hear and respond to the spoken voice and to audible alarms in an active checkpoint environment; (d) perform physical searches by efficiently and thoroughly manipulating and handling baggage, containers, and other objects; (e) perform pat-downs or hand-held metal detector searches of individuals with sufficient dexterity and capacity to thoroughly conduct the procedures over an individual's entire body; and (f) demonstrate a daily fitness for duty without impairment due to illegal drugs, sleep deprivation, medication, or alcohol. The current estimated annual reporting burden is 11,430 hours, based on an estimated 38,052 respondents.

2. Airspace Waiver Applications. TSA is requesting approval of this collection of information to enable it to operate its airspace waiver program. This program allows aircraft operators to request permission to fly in restricted airspace. To obtain a waiver, the aircraft operator must file a waiver request in advance of the flight containing information about all passengers and crew members on board the flight, so that TSA may perform a background check on each individual. The waiver request seeks information such as the purpose of the flight, aircraft type and tail number, corporate information, itinerary, as well as the names, dates and places of birth, and social security numbers or passport number of all passengers and crew members. The current estimated annual reporting burden is 48,000 hours, based on an estimated 24,000 respondents.

Issued in Arlington, Virginia, on November 15, 2004.
Lisa S. Dean,
Privacy Officer.

[FR Doc. 04-25760 Filed 11-19-04; 8:45 am]

BILLING CODE 4910-62-P